DEPARTMENT OF COMMERCE

National Oceanic and Atmospheric Administration

RIN 0648-XD792

Caribbean Fishery Management Council; Public Meeting

AGENCY: National Marine Fisheries Service (NMFS), National Oceanic and Atmospheric Administration (NOAA), Commerce.

ACTION: Notice of a public meeting.

SUMMARY: The Caribbean Fishery Management Council's (Council) Scientific and Statistical Committee (SSC) will hold a meeting.

DATES: The SSC meeting will be held on March 24-26, 2015, from 9 a.m. to 5 p.m.

ADDRESSES: The SSC will meet at the Caribbean Fishery Management Council headquarters, located at 270 Muñoz Rivera Avenue, Suite 401, San Juan, Puerto Rico.

SUPPLEMENTARY INFORMATION: The SSC will meet to discuss the items contained in the following agenda:

March 24-26, 2015

○ Call to Order

○ Selection Criteria for Exclusion/Inclusion of Species in the Island-Based FMPs

A. Brief Review of criteria selection—Status to date

B. Continuation of determining selection criteria

1. Data available

a. Commercial Landings Data—SEFSC Update

i. Overview of Landings Data: Species List Ranked by Poundage and Value—Puerto Rico, St. Thomas/St. John, St. Croix

ii. Monthly landings

iii. Spatial distribution of landings (EEZ-State)

iv. Landings by Coast for Puerto Rico as a Proxy to Differentiate Species that Might be Restricted to the State Waters

v. Landings by Fishing Center-Town: Puerto Rico

b. SEFSC/DNER revision of the 2005 East Coast Correction Factor Update

c. Recreational Landings Data—MRIP Update

i. Overview of Landings Data: Species List Ranked by Poundage.

ii. Spatial distribution of recreational landings

iii. Recommendation to CFMC

2. District Advisory Panels Reports

○ New ABC control rule dealing with data poor stocks.

○ FMUs ACL Overages—SERO Update

Accountability Measures

○ Red Hind Data Review to develop a separate ACL for red hind

1. Data review SEFSC

2. Recommendation to CFMC

○ National SSC V (February 23-25, 2015): Report

○ Discussion of 5-year Research Plan

○ Federal Permits Options Paper

○ Other Business

The meetings are open to the public, and will be conducted in English.

Special Accommodations: These meetings are physically accessible to people with disabilities. For more information or request for sign language interpretation and/other auxiliary aids, please contact Mr. Miguel A. Rolón, Executive Director, Caribbean Fishery Management Council, 270 Muñoz Rivera Avenue, Suite 401, San Juan, Puerto Rico, 00918, telephone (787) 766-5926, at least 5 days prior to the meeting date.

Dated: February 26, 2015.
Tracey L. Thompson,
Acting Deputy Director, Office of Sustainable Fisheries, National Marine Fisheries Service.

[FR Doc. 2015-04414 Filed 3-3-15; 8:45 am]

BILLING CODE 3510-22-P